DEPARTMENT OF COMMERCE

Foreign-Trade Zones Board

[Docket 42-2003]

Foreign-Trade Zone 210—Port Huron, MI; Application for Expansion of Scope of Manufacturing Authority, Cross Hüller-North America (Machine Tools)

An application has been submitted to the Foreign-Trade Zones Board (the Board) by Cross Hüller-North America, operator of FTZ 210—Site 2 (Port Huron Industrial Park), pursuant to section 400.32(b)(1) of the Board's regulations (15 CFR Part 400), requesting an expansion of the scope of manufacturing authority to include new foreign-origin components used in the production of metalworking machine tools under FTZ procedures. It was formally filed on August 25, 2003.

Cross Hüller operates a facility within FTZ 210—Site 2 at the Port Huron Industrial Park, in Port Huron, Michigan. The facility is used to produce metal-working equipment under FTZ procedures, including modular transfer machines, computer-controlled machining centers (drilling, boring, broaching, milling), lathes, and flexible manufacturing systems for the U.S. market and export (Board Order 1230, 67 FR 37384, 5-29-2002).

The applicant currently requests that the scope of authority for the sourcing of foreign components be extended to include the following items: Reinforced vulcanized rubber hoses, millstones/grindstones/grinding wheels of agglomerated abrasives or ceramics, laminated safety glass, socket wrenches, molding patterns, distributors, ignition coils, pyrometers and related instruments, revolution counters, production counters and parts thereof, lamps and lamp fittings of base metal, plastic and brass (2003 duty rate range: 1.4—9.0%, 5¢/kg+2%). The list represents an expanded scope of Cross Hüller's existing scope of sourcing authority.

FTZ procedures would continue to exempt Cross Hüller from Customs duty payments on the foreign components used in production for export. On its domestic sales and exports to NAFTA countries, the company can choose the lower duty rate that applies to finished metalworking equipment (3.3—4.4%) for the foreign inputs noted above. In accordance with section 400.32(b)(1) of the Board's regulations, a member of the FTZ Staff has been designated examiner to investigate the application.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW., Washington, DC 20005; or

2. Submissions via the U.S. Postal Service: Foreign-Trade Zones Board, U.S. Department of Commerce, FCB-4100W, 1401 Constitution Ave., NW., Washington, DC 20230.

The closing period for their receipt is October 20, 2003. Rebuttal comments in response to material submitted during the foregoing period may be submitted during the subsequent 15-day period (to November 3, 2003).

A copy of the application will be available for public inspection at the Office of the Foreign-Trade Zones Board's Executive Secretary at address No. 1 listed above.

Dated: August 25, 2003.
Dennis Puccinelli,
Executive Secretary.

[FR Doc. 03-22435 Filed 9-2-03; 8:45 am]

BILLING CODE 3510-DS-P